DEPARTMENT OF DEFENSE

Office of the Secretary

[Docket ID: DOD-2010-OS-0120]

Privacy Act of 1974; System of Records; Correction

AGENCY: Department of Defense (DoD).

ACTION: Notice to delete a system of records; correction.

SUMMARY: On September 13, 2010 (75 FR 55576), DoD published a notice announcing its intent to delete a Privacy Act system of records. Within that notice an incorrect Air Force system ID number and title was cited under the reasons for deleting a system of records. Also, in one instance, an incorrect system ID number was cited for the proposed deletion. This notice corrects those errors.

DATES: This proposed action will be effective without further notice on October 13, 2010, unless comments are received which result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Cindy Allard at (703) 588-6830.

SUPPLEMENTARY INFORMATION: The Office of the Secretary of Defense systems of records notices subject to the Privacy Act of 1974, (5 U.S.C. 552a), as amended, have been published in the Federal Register and are available from the Privacy Act Officer, Office of Freedom of Information, Washington Headquarters Services, 1155 Defense Pentagon, Washington, DC 20301-1155.

On September 13, 2010, DoD published a notice announcing its intent to delete a Privacy Act system of records: OSD Military Personnel Files (October 6, 2006; 71 FR 59092). Subsequent to the publication of that notice, DoD discovered that the system ID number and title listed for an Air Force system of records is incorrect. In one instance, the September 13 notice also contained a typographical error regarding the system ID number for the proposed deletion. This notice corrects that information.

Corrections

In the notice published on September 13, 2010, in FR Doc. 2010-22755:

1. On page 55576 in the second column, under the heading “REASON”, in line 2, correct the parenthetical system ID number to read “DWHS P47”.

2. On page 55576 in the third column, in lines 6, 7, and 8, remove the following system ID number and title “Air Force F036 AFPC C, Indebtedness, Nonsupport Paternity” and add in its place “Air Force F 036 AF PC C, Applications for Appointment and Extended Active Duty Files”.

Dated: September 20, 2010.
Mitchell S. Bryman,
Alternate OSD Federal Register Liaison Officer, Department of Defense.

[FR Doc. 2010-23791 Filed 9-22-10; 8:45 am]

BILLING CODE 5001-06-P